DEPARTMENT OF HOMELAND SECURITY

Notice of the Renewal of the Critical Infrastructure Partnership Advisory Council Charter

AGENCY: Cybersecurity and Infrastructure Security Agency (CISA), Department of Homeland Security.

ACTION: Notice of availability; renewal of the Critical Infrastructure Partnership Advisory Council Charter.

SUMMARY: On September 9, 2024, the Secretary of the Department of Homeland Security approved the renewal of the Critical Infrastructure Partnership Advisory Council (CIPAC) Charter. Through this notice, the Department is making the renewed CIPAC Charter publicly available and highlighting updated information and guidelines that have been included in the renewed charter.

FOR FURTHER INFORMATION CONTACT: Amy J. Campbell, 202-372-7014, amy.campbell@mail.cisa.dhs.gov.

SUPPLEMENTARY INFORMATION: DHS established the CIPAC on March 24, 2006 ¹ (71 FR 14930). Since its inception, DHS Secretaries have exempted the CIPAC from the requirements of the Federal Advisory Committee Act (FACA), Title 5, United States Code, Ch. 10, pursuant to their authority under 6 U.S.C. 451. The CIPAC facilitates interactions between government officials and representatives of owners and/or operators for each of the critical infrastructure sectors established by National Security Memorandum on Critical Infrastructure Security and Resilience (NSM-22) and identified in the current National Infrastructure Protection Plan. Please visit https://www.cisa.gov/critical-infrastructure-partnership-advisory-council for more information on CIPAC, activities supported by CIPAC, CIPAC Membership Roster, and Council information.

¹ The CIPAC was established consistent with 6 U.S.C. 121 and 6 U.S.C. 451(a). Pursuant to the Cybersecurity and Infrastructure Security Agency Act of 2018, the National Protection and Programs Directorate (NPPD) was re-designated as CISA, and the authorities related to the CIPAC under 6 U.S.C. 121 were transferred to 6 U.S.C. 652.

On September 9, 2024, the Secretary of Homeland Security renewed the CIPAC Charter for an additional two years. The renewed CIPAC Charter supersedes the CIPAC Charter dated November 29, 2022, and is available on the CIPAC website at https://www.cisa.gov/critical-infrastructure-partnership-advisory-council. The renewed CIPAC Charter includes administrative updates and clarifying information.

Amy J. Campbell,
Designated Federal Officer, Critical Infrastructure Partnership Advisory Council, Cybersecurity and Infrastructure Security Agency, Department of Homeland Security.

[FR Doc. 2024-27340 Filed 11-21-24; 8:45 am]

BILLING CODE 9111-LF-P